DEPARTMENT OF DEFENSE

Department of the Navy

Notice of Availability of Government-Owned Inventions; Available for Licensing

AGENCY: Department of the Navy, DOD.

ACTION: Notice.

SUMMARY: The inventions listed below are assigned to the United States Government, as represented by the Secretary of the Navy and are available for licensing by the Department of the Navy. U.S. Patent No. 6,191,744 entitled “Probe movement system for spherical near-field antenna testing” and U.S. Patent No. 6,354,167 entitled “Scara type robot with counterbalanced arms”.

ADDRESSES: Requests for copies of the inventions cited should be directed to the Naval Surface Warfare Center, Crane Div., Code OCF, Bldg 64, 300 HWY 361, Crane, IN 47522-5001 and must include the patent number.

FOR FURTHER INFORMATION CONTACT: Mr. Darrell Boggess, Naval Surface Warfare Center, Crane Div., Code OCF, Bldg 64, 300 HWY 361, Crane, IN 47522-5001, Telephone (812) 854-1130. An application for license may be downloaded from: http://www.crane.navy.mil/foia_pa/CranePatents.asp.

(Authority: 35 U.S.C. 207, 37 CFR part 404)
Dated: February 26, 2003.
R. E. Vincent II
Lieutenant Commander, Judge Advocate General's Corps, U.S. Navy, Federal Register Liaison Officer.

[FR Doc. 03-4981 Filed 3-3-03; 8:45 am]

BILLING CODE 3810-FF-P